DEPARTMENT OF ENERGY

Extension of a Currently Approved Information Collection for the State Energy Program

AGENCY: Office of Energy Efficiency and Renewable Energy, U.S. Department of Energy.

ACTION: Notice and request for comments.

SUMMARY: The Department of Energy (DOE or the Department), pursuant to the Paperwork Reduction Act of 1995, intends to extend for three years a currently approved collection of information with the Office of Management and Budget (OMB). The information collection request, State Energy Program (SEP), was previously approved on August 31, 2020, under OMB Control No. 1910-5126 and its current expiration date is August 31, 2023. This ICR will include SEP Annual Appropriations and Infrastructure Investment and Jobs Act (IIJA). This ICR makes updates to the SEP reporting metrics to ensure the requested information can be shared on an annual basis with Congress.

DATES: Comments regarding this collection must be received on or before December 19, 2022. If you anticipate difficulty in submitting comments within that period, contact the person listed FOR FURTHER INFORMATION CONTACT section as soon as possible.

ADDRESSES: Written comments may be sent to Greg Davoren by email to the following address: Greg.davoren@ee.doe.gov with the subject line “State Energy Program (OMB No. 1910-5126)” included in the message. Submit electronic comments in WordPerfect, Microsoft Word, PDF, or ASCII file format, and avoid the use of special characters or any form of encryption. No telefacsimiles (faxes) will be accepted.

Although DOE has routinely accepted public comment submissions through a variety of mechanisms, including postal mail and hand delivery/courier, the Department has found it necessary to make temporary modifications to the comment submission process considering the ongoing Covid-19 pandemic. DOE is only accepting electronic submissions at this time. If a commenter finds that this change poses an undue hardship, please contact the DOE staff person listed in this notice.

FOR FURTHER INFORMATION CONTACT: Requests for additional information or copies of the information collection instrument and instructions should be directed to Greg Davoren, EE-5W, U.S. Department of Energy, 1000 Independence Ave. SW, Washington, DC 20585-0121 or by email or phone at greg.davoren@ee.doe.gov, (202) 287-1706.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No.: 1910-5126; (2) Information Collection Request Title: “State Energy Program (SEP)”; (3) Type of Review: Extension of a Currently Approved Collection; (4) Purpose: To collect information on the status of grantee activities related to SEP Annual Appropriations and IIJA—total activities funded through with grant funds; expenditures; and results, to ensure that program funds are being used appropriately, effectively and expeditiously. SEP Annual Appropriations: On March 15, 2022, the President signed the Consolidated Appropriations Act of 2021, which appropriated $56,500,000 to the SEP for formula grants allocation. As noted in SEPN 22-01, SEP Grantees will be required to report metrics related to the expenditure of these funds. Infrastructure Investments and Jobs Act (IIJA): In addition to the reporting documents for the SEP's annual appropriations, this collection also includes reporting for the $790 million delivered by IIJA. IIJA was passed by Congress on November 6, 2021 “to authorize funds for Federal-aid highways, highway safety programs, and transit programs, and for other purposes.” The State Energy Program is listed as an IIJA recipient under Title 1: Grid Infrastructure and Resiliency within Division D-Energy. (5) Annual Estimated Number of Respondents: 56; (6) Annual Estimated Number of Total Responses: 1,288; (8) Annual Estimated Number of Burden Hours: 25,088; (8) Annual Estimated Reporting and Recordkeeping Cost Burden: $1,187,164.16.

Statutory Authority: Title 42, chapter 77, subchapter III, part B of the United States Code (U.S.C.), (42 U.S.C. 6321 et seq.). All grant awards made under this program shall comply with applicable laws including, but not limited to, the SEP statutory authority (42 U.S.C. 6321 et seq.), 10 CFR part 420, and 2 CFR part 200 as amended by 2 CFR part 910.

Signing Authority

This document of the Department of Energy was signed on October 14, 2022, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 14, 2022.
Treena V. Garrett,
Federal Register Liaison Officer, U.S. Department of Energy.

[FR Doc. 2022-22696 Filed 10-18-22; 8:45 am]

BILLING CODE 6450-01-P